DEPARTMENT OF HOMELAND SECURITY

Federal Emergency Management Agency

44 CFR Part 65

[Docket No. FEMA-B-7717]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472 (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Elmore | Unincorporated areas of Elmore County (07-04-0063P) | March 21, 2007; March 28, 2007; The Wetumpka Herald | The Honorable Joe Faulk, Chairman, Elmore County Board of Commissioners 100 East Commerce Street, Wetumpka, AL 36092 | June 27, 2007 | 010406
Houston | City of Ashford (07-04-1348P) | March 15, 2007; March 22, 2007; The Dothan Eagle | The Honorable Bryan Alloway, Mayor, City of Ashford, P.O. Box 428, Ashford, AL 36312 | February 26, 2007 | 010099
Arizona:
Coconino | City of Williams (07-09-0126P) | February 22, 2007; March 1, 2007; Arizona Daily Sun | The Honorable Ken Edes, Mayor, City of Williams, 113 South First Street, Williams, AZ 86046 | May 31, 2007 | 040027
Coconino | Unincorporated areas of Coconino County (07-09-0126P) | February 22, 2007; March 1, 2007; Arizona Daily Sun | The Honorable Matt Ryan, Chairman, Coconino County Board of Supervisors, 219 East Cherry Avenue, Flagstaff, AZ 86001 | May 31, 2007 | 040019
Maricopa | Town of Buckeye (07-09-0135P) | March 22, 2007; March 29, 2007; Arizona Business Gazette | The Honorable Bobby Bryant, Mayor, Town of Buckeye, 100 North Apache Road, Suite A, Goodyear, AZ 85326 | June 28, 2007 | 040039
Maricopa | City of Peoria (07-09-0452P) | March 29, 2007; April 5, 2007; Arizona Business Gazette | The Honorable John C. Keegan, Mayor, City of Peoria, City of Peoria Municipal Complex, 8401 West Monroe Street, Peoria, AZ 85345 | March 9, 2007 | 040050
Maricopa | Unincorporated areas of Maricopa County (07-09-0135P) | March 22, 2007; March 29, 2007; Arizona Business Gazette | The Honorable Max Wilson, Chairman, Maricopa County Board of Supervisors, 301 West Jefferson, 10th Floor, Phoenix, AZ 85003 | June 28, 2007 | 040037
Mohave | City of Bullhead City (06-09-B164P) | April 6, 2007; April 13, 2007; Bullhead City Bee | The Honorable Norm Hicks, Mayor, City of Bullhead City, 1255 Marina Boulevard, Bullhead City, AZ 86442 | July 11, 2007 | 040125
Pima | Town of Oro Valley (07-09-0603P) | April 5, 2007; April 12, 2007; The Daily Territorial | The Honorable Paul H. Loomis, Town of Oro Valley, 11000 North La Canada Drive, Oro Valley, AZ 85737 | March 21, 2007 | 040109
Yavapai | City of Chino Valley (07-09-0415P) | March 15, 2007; March 22, 2007; Prescott Daily Courier | The Honorable Karen Fann, Mayor, Town of Chino Valley, P.O. Box 406, Chino Valley, AZ 86323 | February 27, 2007 | 040094
Arkansas:
Benton | City of Bentonville (06-06-B031P) | March 22, 2007; March 29, 2007; Benton County Daily Record | The Honorable Bob McCaslin, Mayor, City of Bentonville, City Hall, 117 West Central, Bentonville, AR 72712 | June 28, 2007 | 050012
Benton | City of Springdale (06-06-BI15P) | March 22, 2007; March 29, 2007; Benton County Daily Record | The Honorable Jerre M. Van Hoose, Mayor, City of Springdale, 201 Spring Street, Springdale, AR 72764 | June 28, 2007 | 050219
Benton | Unincorporated areas of Benton County (06-06-BI15P) | March 22, 2007; March 29, 2007; Benton County Daily Record | The Honorable Gary D. Black, Benton County Judge, 215 East Central Avenue, Bentonville, AR 72712 | June 28, 2007 | 050419
California:
Riverside | City of Corona (06-09-BB68P) | February 15, 2007; February 22, 2007; The Press-Enterprise | The Honorable Eugene Montenez, Mayor, City of Corona, 400 South Vicentia Avenue, Corona, CA 92882 | January 30, 2007 | 060250
Riverside | Unincorporated areas of Riverside County (06-09-BD43P) | January 11, 2007; January 18, 2007; The Press-Enterprise | The Honorable Bob Buster, Chairman, Riverside County, Board of Supervisors, 4080 Lemon Street, Fifth Floor, Riverside, CA 92501 | April 19, 2007 | 060245
San Diego | City of San Marcos (06-09-BE72P) | March 8, 2007; March 15, 2007; San Diego Transcript | The Honorable James Desmond, Mayor, City of San Marcos, One Civic Center Drive, San Marcos, CA 92069 | February 23, 2007 | 060296
Shasta | City of Redding (05-09-0728P) | March 22, 2007; March 29, 2007; Record Searchlight | The Honorable Ken Murray, Mayor, City of Redding, 777 Cypress Avenue, Redding, CA 96001 | June 28, 2007 | 060360
Shasta | Unincorporated areas of Shasta County (05-09-0728P) | March 22, 2007; March 29, 2007; Record Searchlight | The Honorable Trish Clarke, Chairman, Shasta County Board of Supervisors, 1450 Court Street, Redding, CA 96001 | June 28, 2007 | 060358
Florida:
Lake | Unincorporated areas of Lake County (07-04-0194P) | March 16, 2007; March 23, 2007; The Daily Commerical | The Honorable Welton G. Cadwell, Chairman, Lake County Board of Commissioners, P.O. Box 7800, Tavares, FL 32778-7800 | June 22, 2007 | 120421
Miami-Dade | City of Miami (07-04-1922P) | February 22, 2007; March 1, 2007; Miami New Times | The Honorable Manuel A. Diaz, Mayor, City of Miami, 3500 Pan American Drive, Miami, FL 33133 | February 7, 2007 | 120650
Polk | City of Lakeland (06-04-C505P) | March 19, 2007; March 26, 2007; The Polk County Democrat | The Honorable Ralph L. Fletcher, Mayor, City of Lakeland, 228 South Massachusetts Avenue, Lakeland, FL 33801 | February 26, 2007 | 120267
Polk | Unincorporated areas of Polk County (07-04-1702P) | March 19, 2007; March 26, 2007; The Polk County Democrat | Mr. Michael Herr, County Manager, Polk County, P.O. Box 9005, Drawer BC01, Bartow, FL 33831 | February 28, 2007 | 120261
Georgia:
Columbia | Unincorporated areas of Columbia County (07-04-1276P) | March 21, 2007; March 28, 2007; Columbia County News-Times | The Honorable Ron C. Cross, Chairman, Columbia County Board of Commissioners, P.O. Box 498, Evans, GA 30809 | June 27, 2007 | 130059
Gwinnett | City of Duluth (06-04-BO22P) | March 22, 2007; March 29, 2007; Gwinnett Daily Post | The Honorable Shirley Fanning-Lasseter, Mayor, City of Duluth, 3578 West Lawrenceville Street, Duluth, GA 30096 | February 28, 2007 | 130098
Jackson | Unincorporated areas of Jackson County (06-04-BY83P) | March 21, 2007; March 28, 2007; The Jackson Herald | The Honorable Pat Bell, Chairman, Jackson County Board of Commissioners, 67 Athens Street, Jefferson, GA 30549 | June 27, 2007 | 130345
Lamar | City of Barnesville (06-04-BZ31P) | January 16, 2007; January 23, 2007; The Herald-Gazette | The Honorable Dewaine T. Bell, Mayor, City of Barnesville, 109 Forsyth Street, Barnesville, GA 30204 | April 24, 2007 | 130207
Idaho: Blaine | Unincorporated areas of Blaine County (06-10-B204P) | March 21, 2007; March 28, 2007; Wood River Journal | The Honorable Tom Bowman, Chairman, Blaine County Board of Commissioners, 206 First Avenue South, Hailey, ID 83333 | March 27, 2007 | 165167
Illinois:
Peoria | City of Peoria (06-05-BA71P) | March 22, 2007; March 29, 2007; Peoria Journal Star | The Honorable Jim Ardis, Mayor, City of Peoria, 6141 North Evergreen Circle, Peoria, IL 61614 | February 28, 2007 | 17053677
Peoria | Unincorporated areas of Peoria County (06-05-BA71P) | March 22, 2007; March 29, 2007; Peoria Journal Star | The Honorable David Williams, Chairman, Peoria County Board, County Courthouse, 324 Main Street, Peoria, IL 61602 | February 28, 2007 | 170533
Iowa:
Bremer | City of Denver (06-07-B991P) | February 22, 2007; March 1, 2007; The Waverly Democrat | The Honorable Mike Isaacson, Mayor, City of Denver, 100 Washington Street, Denver, IA 50622 | May 31, 2007 | 190026
Bremer | Unincorporated areas of Bremer County (06-07-B991P) | February 22, 2007; March 1, 2007; The Waverly Democrat | The Honorable Steven Reuter, Head, Bremer County Board of Supervisors, 415 East Bremer Avenue, Waverly, IA 50677 | May 31, 2007 | 190847
Michigan: Wayne | City of Taylor (07-05-0263P) | March 21, 2007; March 28, 2007; The News Herald | The Honorable Cameron G. Priebe, Mayor, City of Taylor, Taylor City Hall, 23555 Goddard Road, Taylor, MI 48180 | March 28, 2007 | 260728
Missouri:
Greene | City of Springfield (05-07-0451P) | February 15, 2007; February 22, 2007; Springfield News-Leader | The Honorable Thomas J. Carlson, Mayor, City of Springfield, 840 Boonville Avenue, Springfield, MO 65802 | May 24, 2007 | 290149
Greene | Unincorporated areas of Greene County (05-07-0451P) | February 15, 2007; February 22, 2007; Springfield News-Leader | The Honorable David Coonrod, Presiding Commissioner, Greene County Commission, 933 North Robberson, Springfield, MO 65802 | May 24, 2007 | 290782
St. Louis | City of Sunset Hills (06-07-BB03P) | March 22, 2007; March 29, 2007; The St. Louis Daily Record | The Honorable Kenneth Vogel, Mayor, City of Sunset Hills, 3939 South Lindbergh Boulevard, Sunset Hills, MO 63127 | June 28, 2007 | 290387
Nevada: Washoe | Unincorporated areas of Washoe County (06-09-BG15P) | March 22, 2007; March 29, 2007; Reno Gazette-Journal | The Honorable Robert Larkin, Chair, Washoe County Board of Commissioners, P.O. Box 11130, Reno, NV 89520 | June 28, 2007 | 320019
New Mexico: Bernalillo | City of Albuquerque (06-06-BG87P) | April 5, 2007; April 12, 2007; The Albuquerque Journal | The Honorable Martin J. Chavez, Mayor, City of Albuquerque, P.O. Box 1293, Albuquerque, NM 87103 | March 21, 2007 | 350002
Ohio:
Butler | Unincorporated areas of Butler County (06-05-B014P) | January 11, 2007; January 18, 2007; The Middletown Journal | The Honorable Gregory V. Jolivette, President, Butler County Board of Commissioners, 315 High Street, Sixth Floor, Hamilton, OH 45011 | April 19, 2007 | 390037
Cuyahoga | City of Shaker Heights (05-05-A485P) | March 1, 2007; March 8, 2007; Bedford Times | The Honorable Judith H. Rawson, Mayor, City of Shaker Heights, 3400 Lee Road, Shaker Heights, OH 44120 | June 7, 2007 | 390129
Oklahoma:
Muskogee | City of Muskogee (07-06-0707P) | March 22, 2007; March 29, 2007; Muskogee Phoenix | The Honorable Wren Stratton, Mayor, City of Muskogee, P.O. Box 1927, Muskogee, OK 74401 | June 28, 2007 | 400125
Muskogee | Unincorporated areas of Muskogee County (07-06-0707P) | March 22, 2007; March 29, 2007; Muskogee Phoenix | The Honorable Gene Wallace, Chair, Muskogee County Board of Commissioners, 124 South Fourth Street, Muskogee, OK 74401 | June 28, 2007 | 400491
Osage | City of Bartlesville (07-06-0393P) | April 5, 2007; April 12, 2007; Examiner-Enterprise | The Honorable Julie Daniels, Mayor, City of Bartlesville, 401 South Johnstone Avenue, Bartlesville, OK 74003 | July 12, 2007 | 400220
Osage | Unincorporated areas of Osage County (07-06-0393P) | April 5, 2007; April 12, 2007; Examiner-Enterprise | The Honorable Scott Hilton, Osage County Commissioner, P.O. Box 87, Pawhuska, OK 74056-0087 | July 12, 2007 | 400146
South Dakota: Lawrence | City of Spearfish (07-08-0282P) | March 22, 2007; March 29, 2007; Black Hills Pioneer | The Honorable Jerry Krambeck, Mayor, City of Spearfish, 625 Fifth Street, Spearfish, SD 57783 | February 28, 2007 | 460046
Texas:
Collin | City of Frisco (07-06-0542P) | March 16, 2007; March 23, 2007; Frisco Enterprise | The Honorable Michael Simpson, Mayor, City of Frisco, 6101 Frisco Square Boulevard, Frisco, TX 75034 | June 22, 2007 | 480134
Denton | City of Lewisville (07-06-0243P) | March 21, 2007; March 28, 2007; Lewisville Leader | The Honorable Gene Carey, Mayor, City of Lewisville, P.O. Box 299002, Lewisville, TX 75029 | June 27, 2007 | 480195
Montgomery | City of Montgomery (06-06-B395P) | March 14, 2007; March 21, 2007; Montgomery County News | The Honorable Edith Moore, Mayor, City of Montgomery, P.O. Box 708, Montgomery, TX 77256 | June 20, 2007 | 481483
Montgomery | Unincorporated areas of Montgomery County (06-06-B395P) | March 14, 2007; March 21, 2007; Montgomery County News | The Honorable Alan B. Sadler, Montgomery County Judge, 301 North Thompson, Suite 210, Conroe, TX 77301 | June 20, 2007 | 480483
Tarrant | City of Fort Worth (07-06-0091P) | February 15, 2007; February 22, 2007; Fort Worth Star-Telegram | The Honorable Michael J. Moncrief, Mayor, City of Fort Worth, 1000 Throckmorton Street, Fort Worth, TX 76102 | May 24, 2007 | 480596
Tarrant | City of Fort Worth (07-06-0585P) | March 15, 2007; March 22, 2007; Fort Worth Star-Telegram | The Honorable Michael J. Moncrief, Mayor, City of Fort Worth, 1000 Throckmorton Street, Fort Worth, TX 76102 | June 21, 2007 | 480596
Virginia:
Fauquier | Unincorporated areas of Fauquier County (06-03-B824P) | March 28, 2007; April 4, 2007; Fauquier Times-Democrat | The Honorable Harry Atherton, Chairman, Fauquier County Board of Supervisors, Warren Green Building, 10 Hotel Street, Suite 208, Warrenton, VA 20186 | July 5, 2007 | 510055
Fauquier | Unincorporated areas of Fauquier County (06-03-B867P) | February 28, 2007; March 7, 2007; Fauquier Times-Democrat | The Honorable Ray Graham, Chairman, Fauquier County Board of Supervisors, Warren Green Building, 10 Hotel Street, Suite 208, Warrenton, VA 20186 | June 6, 2007 | 510055
Independent City | City of Virginia Beach (06-03-B810P) | March 22, 2007; March 29, 2007; The Virginian-Pilot | The Honorable Meyera E. Oberndorf, Mayor, City of Virginia Beach, City Hall, Suite 1, 2401 Courthouse Drive, Virginia Beach, VA 23456 | February 28, 2007 | 515531
Washington:
King | City of Issaquah (06-10-B001P) | March 7, 2007; March 14, 2007; The Issaquah Press | The Honorable Ava Frisinger, Mayor, City of Issaquah, P.O. Box 1307, Issaquah, WA 98027 | June 13, 2007 | 530079
King | City of Issaquah (06-10-B407P) | March 14, 2007; March 21, 2007; The Issaquah Press | The Honorable Ava Frisinger, Mayor, City of Issaquah, P.O. Box 1307, Issaquah, WA 98027 | March 26, 2007 | 530079
Kitsap | Unincorporated areas of Kitsap County (06-10-B516P) | March 21, 2007; March 28, 2007; Port Orchard Independent | The Honorable Chris Endresen, Chairman, Kitsap County Board of Commissioners, Commissioners' Office, MS-4, 614 Division Street, Port Orchard, WA 98366 | March 27, 2007 | 530092

(Catalog of Federal Domestic Assistance No. 97.022, “Flood Insurance.”)

Dated: May 24, 2007.
David I. Maurstad,
Federal Insurance Administrator of the National Flood Insurance Program, Federal Emergency Management Agency, Department of Homeland Security.

[FR Doc. E7-10968 Filed 6-6-07; 8:45 am]

BILLING CODE 9110-12-P